DEPARTMENT OF THE TREASURY

Office of Foreign Assets Control

Designation of Entity Pursuant to Executive Order 13224 of September 23, 2001, “Blocking Property and Prohibiting Transactions With Persons Who Commit, Threaten To Commit, or Support Terrorism”; Identification of Entity Pursuant to Executive Order 13582 of August 17, 2011 “Blocking Property of the Government of Syria and Prohibiting Certain Transactions with Respect to Syria;” Identification of Aircraft Pursuant to Executive Orders 13224 and 13582

AGENCY: Office of Foreign Assets Control, Treasury Department.

ACTION: Notice.

SUMMARY: The Treasury Department's Office of Foreign Assets Control (“OFAC”) is publishing the names of one entity whose property and interests in property are blocked pursuant to Executive Order 13224 of September 23, 2001, “Blocking Property and Prohibiting Transactions With Persons Who Commit, Threaten To Commit, or Support Terrorism” and Executive Order 13582 of August 17, 2011 “Blocking Property of the Government of Syria and Prohibiting Certain Transactions with Respect to Syria” (collectively, the “Orders”). OFAC is also publishing identifying information relating to thirty-eight (38) aircraft detailed below, which OFAC has determined to be property in which this entity has an interest, and which are blocked pursuant to the Orders.

DATES: The designation and identification of the entity pursuant to the Orders by the Director of OFAC, and the identification of the 38 aircraft identified in this notice were publicly announced, and identifying information relating to the entity and the aircraft was added to OFAC's List of Specially Designated Nationals and Blocked Persons (“SDN List”), on May 16, 2013..

FOR FURTHER INFORMATION CONTACT: Assistant Director, Sanctions Compliance & Evaluation, Office of Foreign Assets Control, Department of the Treasury Washington, DC 20220, tel.: 202/622-2490.

SUPPLEMENTARY INFORMATION:

Electronic and Facsimile Availability

The SDN List and additional information concerning OFAC are available from OFAC's Web site (www.treas.gov/ofac). Certain general information regarding sanctions programs administered by OFAC is available via facsimile through a 24-hour fax-on-demand service, tel.: 202/622-0077.

Background

On May 16, 2013 the Director of OFAC, in consultation with the Departments of State, Homeland Security, and Justice designated, pursuant to one or more of the criteria set forth in subsections 1(b), 1(c) or 1(d) of Executive Order 13224, the entity listed below. On that same date, the Director of OFAC, in consultation with the Department of State, identified the entity listed below as falling within the definition of the Government of Syria set forth in section 8(d) of Executive Order 13582. Additionally, the Director of OFAC identified the 38 aircraft whose identifying information is detailed below, as property in which the entity listed below has an interest, which is blocked pursuant to the Orders.

The listings for the entity and aircraft on the SDN List appear as follows:

Entity

1. SYRIAN ARAB AIRLINES (a.k.a. SYRIAN AIR; a.k.a. SYRIANAIR), Syria; Social Insurance Building, Youssef Al Azmeh Square, Down Town, PO Box 417, Damascus, Syria [SDGT] [SYRIA] [IRGC] [IFSR].

Aircraft

1. YK-AGA; Aircraft Construction Number (also called L/N or S/N or F/N) 1188; Aircraft Manufacture Date 20 Feb 1976; Aircraft Model B.727-294; Aircraft Operator Syrianair; Aircraft Manufacturer's Serial Number (MSN) 21203 (aircraft) [SDGT] [SYRIA] [IRGC] [IFSR] (Linked To: SYRIAN ARAB AIRLINES).

2. YK-AGB; Aircraft Construction Number (also called L/N or S/N or F/N) 1194; Aircraft Manufacture Date 18 Mar 1976; Aircraft Model B.727-294; Aircraft Operator Syrianair; Aircraft Manufacturer's Serial Number (MSN) 21204 (aircraft) [SDGT] [SYRIA] [IRGC] [IFSR] (Linked To: SYRIAN ARAB AIRLINES).

3. YK-AGC; Aircraft Construction Number (also called L/N or S/N or F/N) 1198; Aircraft Manufacture Date 09 Apr 1976; Aircraft Model B.727-294; Aircraft Operator Syrianair; Aircraft Manufacturer's Serial Number (MSN) 21205 (aircraft) [SDGT] [SYRIA] [IRGC] [IFSR] (Linked To: SYRIAN ARAB AIRLINES).

4. YK-AGD; Aircraft Construction Number (also called L/N or S/N or F/N) 1670; Aircraft Manufacture Date 26 Sep 1980; Aircraft Model B.727-269; Aircraft Operator Syrianair; Aircraft Manufacturer's Serial Number (MSN) 22360 (aircraft) [SDGT] [SYRIA] [IRGC] [IFSR] (Linked To: SYRIAN ARAB AIRLINES).

5. YK-AGE; Aircraft Construction Number (also called L/N or S/N or F/N) 1716; Aircraft Manufacture Date 06 Feb 1981; Aircraft Model B.727-269; Aircraft Operator Syrianair; Aircraft Manufacturer's Serial Number (MSN) 22361 (aircraft) [SDGT] [SYRIA] [IRGC] [IFSR] (Linked To: SYRIAN ARAB AIRLINES).

6. YK-AGF; Aircraft Construction Number (also called L/N or S/N or F/N) 1788; Aircraft Manufacture Date 12 Nov 1981; Aircraft Model B.727-269; Aircraft Operator Syrianair; Aircraft Manufacturer's Serial Number (MSN) 22763 (aircraft) [SDGT] [SYRIA] [IRGC] [IFSR] (Linked To: SYRIAN ARAB AIRLINES).

7. YK-AIA; Aircraft Manufacture Date Jan 1985; Aircraft Model Tu-154M; Aircraft Operator Syrianair; Aircraft Manufacturer's Serial Number (MSN) 708 (aircraft) [SDGT] [SYRIA] [IRGC] [IFSR] (Linked To: SYRIAN ARAB AIRLINES).

8. YK-AIC; Aircraft Manufacture Date Mar 1985; Aircraft Model Tu-154M; Aircraft Operator Syrianair; Aircraft Manufacturer's Serial Number (MSN) 710 (aircraft) [SDGT] [SYRIA] [IRGC] [IFSR] (Linked To: SYRIAN ARAB AIRLINES).

9. YK-AKA; Aircraft Manufacture Date 02 Sep 1998; Aircraft Model A320-232; Aircraft Operator Syrianair; Aircraft Manufacturer's Serial Number (MSN) 886 (aircraft) [SDGT] [SYRIA] [IRGC] [IFSR] (Linked To: SYRIAN ARAB AIRLINES).

10. YK-AKB; Aircraft Manufacture Date 26 Oct 1998; Aircraft Model A320-232; Aircraft Operator Syrianair; Aircraft Manufacturer's Serial Number (MSN) 918 (aircraft) [SDGT] [SYRIA] [IRGC] [IFSR] (Linked To: SYRIAN ARAB AIRLINES).

11. YK-AKC; Aircraft Manufacture Date 26 May 1999; Aircraft Model A320-232; Aircraft Operator Syrianair; Aircraft Manufacturer's Serial Number (MSN) 1032 (aircraft) [SDGT] [SYRIA] [IRGC] [IFSR] (Linked To: SYRIAN ARAB AIRLINES).

12. YK-AKD; Aircraft Manufacture Date 17 Aug 1999; Aircraft Model A320-232; Aircraft Operator Syrianair; Aircraft Manufacturer's Serial Number (MSN) 1076 (aircraft) [SDGT] [SYRIA] [IRGC] [IFSR] (Linked To: SYRIAN ARAB AIRLINES).

13. YK-AKE; Aircraft Manufacture Date 06 Sep 1999; Aircraft Model A320-232; Aircraft Operator Syrianair; Aircraft Manufacturer's Serial Number (MSN) 1085 (aircraft) [SDGT] [SYRIA] [IRGC] [IFSR] (Linked To: SYRIAN ARAB AIRLINES).

14. YK-AKF; Aircraft Manufacture Date 11 Oct 1999; Aircraft Model A320-232; Aircraft Operator Syrianair; Aircraft Manufacturer's Serial Number (MSN) 1117 (aircraft) [SDGT] [SYRIA] [IRGC] [IFSR] (Linked To: SYRIAN ARAB AIRLINES).

15. YK-ANC; Aircraft Construction Number (also called L/N or S/N or F/N) 3007; Aircraft Manufacture Date 1975; Aircraft Model An-26; Aircraft Operator Syrianair; Aircraft Manufacturer's Serial Number (MSN) 57303007 (aircraft) [SDGT] [SYRIA] [IRGC] [IFSR] (Linked To: SYRIAN ARAB AIRLINES).

16. YK-AND; Aircraft Construction Number (also called L/N or S/N or F/N) 3008; Aircraft Manufacture Date 1975; Aircraft Model An-26; Aircraft Operator Syrianair; Aircraft Manufacturer's Serial Number (MSN) 57303008 (aircraft) [SDGT] [SYRIA] [IRGC] [IFSR] (Linked To: SYRIAN ARAB AIRLINES).

17. YK-ANE; Aircraft Construction Number (also called L/N or S/N or F/N) 3103; Aircraft Manufacture Date 1975; Aircraft Model An-26; Aircraft Operator Syrianair; Aircraft Manufacturer's Serial Number (MSN) 57303103 (aircraft) [SDGT] [SYRIA] [IRGC] [IFSR] (Linked To: SYRIAN ARAB AIRLINES).

18. YK-ANF; Aircraft Construction Number (also called L/N or S/N or F/N) 3104; Aircraft Manufacture Date 1975; Aircraft Model An-26; Aircraft Operator Syrianair; Aircraft Manufacturer's Serial Number (MSN) 57303104 (aircraft) [SDGT] [SYRIA] [IRGC] [IFSR] (Linked To: SYRIAN ARAB AIRLINES).

19. YK-ANG; Aircraft Construction Number (also called L/N or S/N or F/N) 10907; Aircraft Manufacture Date 1981; Aircraft Model An-26B; Aircraft Operator Syrianair; Aircraft Manufacturer's Serial Number (MSN) 17310907 (aircraft) [SDGT] [SYRIA] [IRGC] [IFSR] (Linked To: SYRIAN ARAB AIRLINES).

20. YK-ANH; Aircraft Construction Number (also called L/N or S/N or F/N) 11406; Aircraft Manufacture Date 1981; Aircraft Model An-26B; Aircraft Operator Syrianair; Aircraft Manufacturer's Serial Number (MSN) 17311406 (aircraft) [SDGT] [SYRIA] [IRGC] [IFSR] (Linked To: SYRIAN ARAB AIRLINES).

21. YK-AQA; Aircraft Construction Number (also called L/N or S/N or F/N) 3219; Aircraft Model Yak-40; Aircraft Operator Syrianair; Aircraft Manufacturer's Serial Number (MSN) 9341932 (aircraft) [SDGT] [SYRIA] [IRGC] [IFSR] (Linked To: SYRIAN ARAB AIRLINES).

22. YK-AQB; Aircraft Construction Number (also called L/N or S/N or F/N) 4304; Aircraft Model Yak-40; Aircraft Operator Syrianair; Aircraft Manufacturer's Serial Number (MSN) 9530443 (aircraft) [SDGT] [SYRIA] [IRGC] [IFSR] (Linked To: SYRIAN ARAB AIRLINES).

23. YK-AQD; Aircraft Construction Number (also called L/N or S/N or F/N) 5801; Aircraft Model Yak-40; Aircraft Operator Syrianair; Aircraft Manufacturer's Serial Number (MSN) 9830158 (aircraft) [SDGT] [SYRIA] [IRGC] [IFSR] (Linked To: SYRIAN ARAB AIRLINES).

24. YK-AQE; Aircraft Construction Number (also called L/N or S/N or F/N) 5802; Aircraft Model Yak-40; Aircraft Operator Syrianair; Aircraft Manufacturer's Serial Number (MSN) 9830258 (aircraft) [SDGT] [SYRIA] [IRGC] [IFSR] (Linked To: SYRIAN ARAB AIRLINES).

25. YK-AQF; Aircraft Construction Number (also called L/N or S/N or F/N) 5918; Aircraft Model Yak-40; Aircraft Operator Syrianair; Aircraft Manufacturer's Serial Number (MSN) 9931859 (aircraft) [SDGT] [SYRIA] [IRGC] [IFSR] (Linked To: SYRIAN ARAB AIRLINES).

26. YK-AQG; Aircraft Construction Number (also called L/N or S/N or F/N) 5919; Aircraft Model Yak-40K(F); Aircraft Operator Syrianair; Aircraft Manufacturer's Serial Number (MSN) 9941959 (aircraft) [SDGT] [SYRIA] [IRGC] [IFSR] (Linked To: SYRIAN ARAB AIRLINES).

27. YK-ATA; Aircraft Construction Number (also called L/N or S/N or F/N) 1604; Aircraft Manufacture Date 1979; Aircraft Model Il-76T; Aircraft Operator Syrianair; Aircraft Manufacturer's Serial Number (MSN) 93421613 (aircraft) [SDGT] [SYRIA] [IRGC] [IFSR] (Linked To: SYRIAN ARAB AIRLINES).

28. YK-ATB; Aircraft Construction Number (also called L/N or S/N or F/N) 1605; Aircraft Manufacture Date 1979; Aircraft Model Il-76T; Aircraft Operator Syrianair; Aircraft Manufacturer's Serial Number (MSN) 93421619 (aircraft) [SDGT] [SYRIA] [IRGC] [IFSR] (Linked To: SYRIAN ARAB AIRLINES).

29. YK-ATC; Aircraft Construction Number (also called L/N or S/N or F/N) 2308; Aircraft Manufacture Date 1981; Aircraft Model Il-76T; Aircraft Operator Syrianair; Aircraft Manufacturer's Serial Number (MSN) 13431911 (aircraft) [SDGT] [SYRIA] [IRGC] [IFSR] (Linked To: SYRIAN ARAB AIRLINES).

30. YK-ATD; Aircraft Construction Number (also called L/N or S/N or F/N) 2309; Aircraft Manufacture Date 1981; Aircraft Model Il-76T; Aircraft Operator Syrianair; Aircraft Manufacturer's Serial Number (MSN) 13431915 (aircraft) [SDGT] [SYRIA] [IRGC] [IFSR] (Linked To: SYRIAN ARAB AIRLINES).

31. YK-AVA; Aircraft Manufacture Date 07 Oct 2008; Aircraft Model ATR-72-212A; Aircraft Operator Syrianair; Aircraft Manufacturer's Serial Number (MSN) 836 (aircraft) [SDGT] [SYRIA] [IRGC] [IFSR] (Linked To: SYRIAN ARAB AIRLINES).

32. YK-AVB; Aircraft Manufacture Date 24 Dec 2008; Aircraft Model ATR-72-212A; Aircraft Operator Syrianair; Aircraft Manufacturer's Serial Number (MSN) 845 (aircraft) [SDGT] [SYRIA] [IRGC] [IFSR] (Linked To: SYRIAN ARAB AIRLINES).

33. YK-AYA; Aircraft Construction Number (also called L/N or S/N or F/N) 6330; Aircraft Manufacture Date 1982; Aircraft Model Tu-134BK-3; Aircraft Operator Syrianair; Aircraft Manufacturer's Serial Number (MSN) 63992 (aircraft) [SDGT] [SYRIA] [IRGC] [IFSR] (Linked To: SYRIAN ARAB AIRLINES).

34. YK-AYB; Aircraft Construction Number (also called L/N or S/N or F/N) 6331; Aircraft Manufacture Date 1982; Aircraft Model Tu-134BK-3; Aircraft Operator Syrianair; Aircraft Manufacturer's Serial Number (MSN) 63994 (aircraft) [SDGT] [SYRIA] [IRGC] [IFSR] (Linked To: SYRIAN ARAB AIRLINES).

35. YK-AYC; Aircraft Construction Number (also called L/N or S/N or F/N) 6327; Aircraft Manufacture Date 1982; Aircraft Model Tu-134B-3; Aircraft Operator Syrianair; Aircraft Manufacturer's Serial Number (MSN) 63989 (aircraft) [SDGT] [SYRIA] [IRGC] [IFSR] (Linked To: SYRIAN ARAB AIRLINES).

36. YK-AYD; Aircraft Construction Number (also called L/N or S/N or F/N) 6328; Aircraft Manufacture Date 1982; Aircraft Model Tu-134B-3; Aircraft Operator Syrianair; Aircraft Manufacturer's Serial Number (MSN) 63990 (aircraft) [SDGT] [SYRIA] [IRGC] [IFSR] (Linked To: SYRIAN ARAB AIRLINES).

37. YK-AYE; Aircraft Construction Number (also called L/N or S/N or F/N) 6348; Aircraft Manufacture Date Sep 1984; Aircraft Model Tu-134B-3; Aircraft Operator Syrianair; Aircraft Manufacturer's Serial Number (MSN) 66187 (aircraft) [SDGT] [SYRIA] [IRGC] [IFSR] (Linked To: SYRIAN ARAB AIRLINES).

38. YK-AYF; Aircraft Construction Number (also called L/N or S/N or F/N) 6349; Aircraft Manufacture Date 10 Oct 1984; Aircraft Model Tu-134B-3; Aircraft Operator Syrianair; Aircraft Manufacturer's Serial Number (MSN) 66190 (aircraft) [SDGT] [SYRIA] [IRGC] [IFSR] (Linked To: SYRIAN ARAB AIRLINES).SYRIAN AIRLINE [SDGT].

Dated: May 16, 2013.
John H. Battle,
Acting Director, Office of Foreign Assets Control.

[FR Doc. 2013-12450 Filed 5-28-13; 8:45 am]

BILLING CODE 4810-AL-P